SMALL BUSINESS ADMINISTRATION

Senior Executive Service; Performance Review Board Members

ACTION: Notice of members of the FY 2000 Performance Review Board.

SUMMARY: Section 4314© (4) of Title 5, U.S.C., requires each agency to publish notification of the appointment of individuals who may serve as members of that Agency's Performance Review Boards (PRB). The following have been designated to serve on the FY 2000 Performance Review Board for the U.S. Small Business Administration:

1. Bettie Baca, Counselor to the Administrator;

2. Charles Payne, General Counsel;

3. Monika Harrison, Deputy to the Associate Deputy Administrator for Entrepreneurial Development;

4. Kris Marcy, Chief Operating Officer;

5. Arnold Rosenthal, Assistant Administrator for Borrower and Lender Servicing;

6. Francisco Marrero, District Director (New Jersey);

7. Kerry Kirkland, Associate Deputy Administrator for Government Contracting and Business Development;

8. James Westbrooks, Assistant Administrator for Equal Employment Opportunity & Compliance;

9. Cory Whitehead, Deputy to the Associate Deputy Administrator for Management & Administration;

10. Bernetta Hayes, Associate Administrator for Communications and Public Liaison;

11. Gregory Walter, Deputy Chief Financial Officer;

12. Darryl Hairston, Deputy to the Associate Deputy Administrator for Government Contracting and Business Development;

13. Jane Merkin, Assistant Administrator for Congressional and Legislative Affairs;

14. Gail McDonald, National Ombudsman;

15. Robert Baskin, Associate Administrator for Field Operations;

16. Linda Williams; Associate Administrator for Procurement Policy and Liaison;

17. Aubrey Rogers, District Director (New York); and

18. Herbert Mitchell, Deputy Associate Administrator for Disaster Assistance.

Dated: November 17, 2000.
Aida Alvarez,
Administrator.

[FR Doc. 00-30261 Filed 11-27-00; 8:45 am]

BILLING CODE 8025-01-P